GOVERNMENT ACCOUNTABILITY OFFICE

4 CFR Part 28

Personnel Appeals Board; Procedural Rules

AGENCY: Government Accountability Office Personnel Appeals Board.

ACTION: Final rule; technical amendment.

SUMMARY: The rule adopts as final an interim rule published December 9, 2011, which amended regulations to reflect a change in law concerning grievance procedures and changed some specific terms in the regulations to ones more commonly used throughout the government. Additionally, the PAB is moving its offices as of March 19, 2012, and accordingly, this part is being amended to reflect that move and change the Board's address. The intended effect of this action is to ensure that the public is informed of the final rule and of the Board's address change.

DATES: Effective March 15, 2012.

FOR FURTHER INFORMATION CONTACT: Beth Don, Executive Director, or Susan Inzeo, Solicitor, 202-512-6137, Personnel Appeals Board, Room 1566, 441 G Street NW., Washington, DC 20548.

SUPPLEMENTARY INFORMATION: On December 9, 2011, the Government Accountability Office Personnel Appeals Board (the Board or PAB) published an interim rule reflecting a change in law concerning grievance procedures and changing some specific terms in the regulations to ones more commonly used throughout the government. 76 FR 76873, December 9, 2011. The formal period for comments closed on February 7, 2012, and no comments were received. Accordingly, the interim rule amending 4 CFR part 28 which was published at 76 FR 76873 on December 9, 2011, is adopted as a final rule without substantial changes. Additionally, since the PAB is moving its offices as of March 19, 2012, title 4, part 28 of the Code of Federal Regulations is being amended to reflect the change in location and mailing address.

List of Subjects in 4 CFR Part 28

Administrative practice and procedure, Claims, Government employees, Labor-management relations, Reduction in force.

For the reasons set forth in the preamble, the interim rule amending title 4, part 28, Code of Federal Regulations, which was published at 76 FR 76873 on December 9, 2011, is adopted as final, with changes as follows:

PART 28—GOVERNMENT ACCOUNTABILITY OFFICE PERSONNEL APPEALS BOARD; PROCEDURES APPLICABLE TO CLAIMS CONCERNING EMPLOYMENT PRACTICES AT THE GOVERNMENT ACCOUNTABILITY OFFICE

1. The authority citation for part 28 continues to read as follows:

Authority: 31 U.S.C. 753.

2. In § 28.11, revise paragraph (c) to read as follows:

§ 28.11 Filing a charge with the Office of General Counsel.

* * * * *

(c) How to file. Charges may be filed with the Office of General Counsel by personal delivery (including commercial carrier) or by mail.

(1) A charge may be filed by personal delivery at the Office of General Counsel, Personnel Appeals Board, Room 1562, 441 G Street NW., Washington, DC 20548.

(2) A charge may be filed by mail addressed to the Office of General Counsel, Personnel Appeals Board, Room 1562, 441 G Street NW., Washington, DC 20548. When filed by mail, the postmark shall be the date of filing for all submissions to the Office of General Counsel.

* * * * *

3. In § 28.18, revise paragraph (c) to read as follows:

§ 28.18 Filing a petition with the Board.

* * * * *

(c) How to file. (1) A petition may be filed by hand delivery to the office of the Personnel Appeals Board, Room 1566, 441 G Street NW., Washington, DC 20548. It must be received by 4 p.m., Monday through Friday, on the date that it is filed.

(2) A petition may be filed by mail addressed to the Personnel Appeals Board, Room 1566, 441 G Street NW., Washington, DC 20548. When filed by mail, the postmark shall be the date of filing for all submissions to the Board.

* * * * *

4. In § 28.160, revise paragraph (a) to read as follows:

§ 28.160 Request for records.

(a) Individuals may request access to records pertaining to them that are maintained as described in 4 CFR part 83, by addressing inquiry to the PAB General Counsel either by mail or by appearing in person at the Personnel Appeals Board Office of General Counsel, Room 1562, 441 G Street NW., Washington, DC 20548, during business hours on a regular business day. Requests in writing should be clearly and prominently marked “Privacy Act Request.” Requests for copies of records shall be subject to duplication fees set forth in 4 CFR 83.17.

* * * * *

5. In § 28.161, revise paragraph (b) to read as follows:

§ 28.161 Denial of access to information—Appeals.

* * * * *

(b) Any individual whose request for access to records of the PAB General Counsel has been denied in whole or in part by the General Counsel may, within 30 days of receipt of the denial, challenge that decision by filing a written request for review of the decision with the Personnel Appeals Board, Room 1566, 441 G Street NW., Washington, DC 20548.

* * * * *

Steven H. Svartz,
Chair, Personnel Appeals Board, U.S. Government Accountability Office.

[FR Doc. 2012-6216 Filed 3-14-12; 8:45 am]

BILLING CODE 1610-02-P